DEPARTMENT OF DEFENSE

Department of the Navy

Notice of Intent to Prepare an Environmental Impact Statement/Overseas Environmental Impact Statement for Hawaii-Southern California Training and Testing and Notice of Public Scoping Meetings; Correction

AGENCY: Department of the Navy, DoD.

ACTION: Notice; correction.

SUMMARY: The Department of the Navy published a document in the Federal Register (80 FR 218) on November 12, 2015, announcing a Notice of Intent to prepare an Environmental Impact Statement/Overseas Environmental Impact Statement for Hawaii-Southern California Training and Testing and a Notice of Public Scoping Meetings. The document contained an incorrect date.

FOR FURTHER INFORMATION CONTACT: Nora Macariola-See, Naval Facilities Engineering Command, Pacific. Attention: HSTT EIS/OEIS, 258 Makalapa Drive, Suite 100, Pearl Harbor, HI 96860-3134. 808-472-1402.

CORRECTION: In the Federal Register (80 FR 218) of November 12, 2015, on page 69952, in the third column, correct the mailed comments postmarked date to read January 12, 2016.

Dated: November 24, 2015.
N.A. Hagerty-Ford,
Commander, Judge Advocate General's Corps, U.S. Navy, Federal Register Liaison Officer.

[FR Doc. 2015-30492 Filed 11-30-15; 8:45 am]

BILLING CODE 3810-FF-P